DEPARTMENT OF ENERGY

Federal Energy Regulatory Commission

[Docket Nos. EL00-95-000 and EL00-98-000]

San Diego Gas & Electric Company, Complainant, v. Sellers of Energy and Ancillary Services Into Markets Operated by the California Independent System Operator and the California Power Exchange, Respondents.; Investigation of Practices of the California Independent System Operator and the California Power Exchange; Notice of Technical Conference

August 16, 2005.

The Federal Energy Regulatory Commission staff will convene a technical conference to finalize the template for submission of cost filings, as discussed in San Diego Gas & Electric Co. v. Sellers of Energy & Ancillary Services, et al., 112 FERC ¶ 61,1176 (2005). Participants should be prepared and will be expected to discuss the substantive details of the cost filings' uniform format.

The staff technical conference will be held on August 25, 2005, at the Federal Energy Regulatory Commission, 888 First Street, NE., Washington, DC 20426, beginning at 9 a.m. (e.s.t.) in a room to be announced at a later date.

FERC conferences are accessible under section 508 of the Rehabilitation Act of 1973. For accessibility accommodations please send an e-mail to accessibility@ferc.gov or call toll free 1-866-208-3372 (voice) or 202-208-1659 (TTY), or send a FAX to 202-208-2106 with the required accommodations.

Parties to these proceedings and Commission staff may attend. For more information about the conference, please contact: Heidi Werntz, Office of General Counsel, Federal Energy Regulatory Commission, at (202) 502-8910 or Heidi.Werntz@ferc.gov.

Magalie R. Salas,
Secretary.

[FR Doc. E5-4576 Filed 8-22-05; 8:45 am]

BILLING CODE 6717-01-P